ENVIRONMENTAL PROTECTION AGENCY

[FRL-6998-9]

Draft Great Lakes Strategy Notice of Availability, Public Meetings and the Opportunity To Comment; Correction

AGENCY: Environmental Protection Agency.

ACTION: Notice; correction.

SUMMARY: The Environmental Protection Agency published a notice in the Federal Register of June 5, 2001, concerning a notice of availability of and request for comments on a draft of the Great Lakes Strategy, and a notice of public meetings which will be held in Duluth, MN, Detroit, MI, Buffalo, NY, and Chicago, IL during the weeks of June 25, 2001 and July 2, 2001. The notice contained a date which has been changed from Wednesday June, 27, 2001 to Tuesday, June 26, 2001.

FOR FURTHER INFORMATION CONTACT: Ted Smith, 312-353-6571.

SUPPLEMENTARY INFORMATION:

Correction

In the Federal Register of June 6, 2001, in FR Doc. 01-14081 page 30187, in the third column, under the DATES section the Date for “Wednesday June 27, 2001” is changed to “Tuesday, June 26, 2001.”

Dated: June 8, 2001.
Gary Gulezian,
Great Lakes National Program Director.

[FR Doc. 01-15292 Filed 6-15-01; 8:45 am]

BILLING CODE 6560-50-U